DEPARTMENT OF THE INTERIOR

National Park Service

[NPS-WASO-NRNHL-20297; PPWOCRADI0, PCU00RP14.R50000]

National Register of Historic Places; Notification of Extension of Comment Period for Pending Nomination of Chi'chil Bildagoteel (Oak Flats) Historic District

AGENCY: National Park Service, Interior.

ACTION: Notice.

SUMMARY: The National Park Service is extending the period for soliciting comments on the proposed listing of the Chi'chil Bildagoteel (Oak Flats) Historic District Traditional Cultural Property in the National Register of Historic Places.

DATES: Comments should be submitted by March 4, 2016.

ADDRESSES: Comments may be sent via U.S. Postal Service to the National Register of Historic Places, National Park Service, 1849 C St. NW., MS 2280, Washington, DC 20240; by all other carriers, National Register of Historic Places, National Park Service, 1201 Eye St. NW., 8th Floor, Washington, DC 20005; or by fax, 202-371-6447. Email comments can be sent to edson_beall@nps.gov.

SUPPLEMENTARY INFORMATION: On January 21, 2016, the National Park Service published a notice (81 FR 3469, column 2) soliciting comments on the significance of properties nominated before January 2, 2016 in the National Register of Historic Places. The Chi'chil Bildagoteel (Oak Flats) Historic District Traditional Cultural Property, Pinal County, Arizona, is being considered for listing in the National Register of Historic Places. Pursuant to §§ 60.6(t) and 60.12(a) of 36 CFR part 60, the period for accepting written comments on the significance of the nominated property under the National Register criteria for evaluation has been extended, and all comments should be submitted on or before March 4, 2016.

Before including your address, phone number, email address, or other personal identifying information in your comment, you should be aware that your entire comment—including your personal identifying information—may be made publicly available at any time. While you can ask us in your comment to withhold your personal identifying information from public review, we cannot guarantee that we will be able to do so.

If you submitted comments or information during the previous open comment period, please do not resubmit them. We will fully consider them in the preparation of our final determination

Authority: 36 CFR 60.6(t) and 60.12(a).

Dated: February 5, 2016.
J. Paul Loether,
Chief, National Register of Historic Places/National Historic Landmarks Program.

[FR Doc. 2016-04373 Filed 2-25-16; 11:15 am]

BILLING CODE 4312-51-P